DEPARTMENT OF AGRICULTURE

Forest Service

Methow Transmission Project, Okanogan and Wenatchee National Forests, Okanogan County, WA

AGENCY: Forest Service, USDA.

ACTION: Notice of intent to prepare an environmental impact statement.

SUMMARY: Notice is hereby given that the USDA Forest Service and the Okanogan Public Utility District No. 1 (PUD) will jointly prepare an Environmental Impact Statement (EIS) that will evaluate alternatives to provide reliable electric power to the Methow Valley and improve electric distribution to customers in the lower Methow Valley. The project is located in Okanogan County, Washington. Although the proposed action does not involve Federal lands, two of the preliminary alternatives identified for this project involve a “hot” rebuild of the existing Loup-Loup electric transmission line. A “hot” rebuild would involve replacing the existing high-voltage transmission line and its poles while maintaining power in the existing lines. Approximately 4.5 miles of the 27 mile Loup-Loup transmission line is located on the Okanogan National Forest, approximately 12 miles west of the town of Okanogan. The proposed “hot” rebuild alternatives would require additional clearing of vegetation in the existing right-of-way (ROW) on National Forest System (NFS) lands. The proposed project will comply with direction in the 1989 Okanogan National Forest Land and Resource Management Plan (Forest Plan), as amended. The Forest Plan provides the overall guidance for management of NFS lands included in this proposal. In addition, the Loup-Loup line also traverses approximately one mile of Bureau of Land Management lands. The agencies invite written comments on the scope of this project. In addition, the agencies give notice of this analysis so that interested and affected individuals are aware of how they may participate and contribute to the final decision.

DATES: Comments concerning the scope of the analysis must be received by December 15, 2003. A public information and scoping meeting is proposed to be held in November to provide information about the project to the public and to allow people to comment on the project.

ADDRESSES: Submit written comments and suggestions concerning the scope of the analysis to Keith Rowland, Project Coordinator, Okanogan Valley Office, 1240 Second Avenue South, Okanogan, Washington 98840 [Phone: (509) 826-3067; E-mail: krowland@fs.fed.us].

FOR FURTHER INFORMATION CONTACT: Direct questions about the proposed action and EIS to Keith Rowland, Project Coordinator, Okanogan Valley Office, 1240 Second Avenue South, Okanogan, Washington 98840 [Phone: (509) 826-3067; E-mail: krowland@fs.fed.us].

SUPPLEMENTARY INFORMATION:

Purpose and Need for Action: The Okanogan Public Utility District (PUD) is a non-profit local government entity whose mission is to provide reliable electrical service to those within its defined boundaries, and to plan for the future electrical service needs of its constituency (Title 54 RCW). The PUD is responsible for providing electrical service to the communities of Pateros, Twisp, and the unincorporated area of the lower Methow Valley in Okanogan County, among other communities in its service area. The Okanogan National Forest Land and Resource Management Plan permits and gives priority to special uses that provide public service. Pateros, Twisp, and the unincorporated lower Methow Valley area are currently served by a single transmission route constructed in 1948 that crosses Loup Loup Pass from Okanogan to Twisp. Distribution of that electrical service throughout the lower Methow Valley depends on a system that is approaching capacity now under average winter conditions and will not meet severe winter demand. The PUD has proposed the construction of a new transmission line, a new substation, and improvements to the distribution system in order to meet its obligations under the law to provide reliable electricity at reasonable rates to its ratepayers.

The PUD is also a party to a general transfer agreement (GTA) with the Bonneville Power Administration (BPA) for providing transmission service to the Okanogan County Electric Cooperative (Co-op). The Co-op provides service to the upper Methow Valley including the towns of Winthrop and Mazama. BPA has notified the PUD that the reliability of the existing transmission system is below standard.

Proposed Action: The proposed action, the project proposed by the PUD, involves construction of approximately 26.5 miles of 115 KV electric transmission line and associated access roads between Twisp and Pateros in Okanogan County, Washington. The first 5.5 miles of transmission line (from the existing Twisp substation) would overbuild existing distribution along highways 20 and 1523. Existing poles would be replaced as part of this overbuild. The remainder of the proposed transmission line would be constructed along the benches and foothills to the east of Highway 153. The final 1.7 miles of the proposed transmission line (south to the existing Pateros substation) would parallel Watson Draw Road. The proposed project would also include construction of a new substation located along Highway 153 between Carlton and Methow in the Gold Creek area, as well as improvements to the existing distribution system. Construction of the proposed project would occur in 2006. Under NEPA, the “proposed action” may be, but is not necessarily, the agency's “preferred alternative.” The proposed action identified above represents the PUD's initial proposal that has not yet undergone analysis in the EIS process. The EIS process will involve evaluation of the proposed action described above, as well as other reasonable alternatives to the proposed action.

Alternatives: For the purposes of this analysis, the PUD and Forest Service have identified preliminary action alternatives for consideration in the scoping process. The preliminary action alternatives all include construction of new electric transmission capacity and improvement of the existing distribution capacity. Four of the preliminary action alternatives also include construction of a new substation in the Gold Creek area near Washington State Route 153. Two of the preliminary alternatives involve a “hot” rebuild of the existing Loup-Loup electric transmission line. Approximately 4.5 miles of the 27 mile Loup-Loup transmission line is located on the Okanogan National forest, approximately 12 miles west of the town of Okanogan and approximately one mile is located on Bureau of Land Management Land, two miles southwest of Okanogan. The proposed “hot” rebuild alternatives would require additional clearing of vegetation in the existing ROW on National Forest Service (NFS) lands.

The alternatives currently under consideration are:

• The No-action alternative under which there would be no new powerline built and non “hot” rebuild of the existing Loup Loup line.

• The proposed Twisp/Pateros transmission line that would connect existing substations in Twisp and Pateros and involve construction of a new substation located along Highway 153 between Carlton and Methow in the Gold Creek area, as well as distribution improvements.

• A “hot” rebuild of the existing Loup-Loup transmission line that would include approximately 15 miles of new transmission line from Pateros to Gold Creek, as well as a new substation in the Gold Creek area. This new transmission line and substation are assumed to involve the same alignment and substation proposed for the Twisp/Pateros transmission line and substation.

• A “hot” rebuild of the existing Loup-Loup transmission line that would include an upgrade of distribution between Twisp and Pateros, but not a substation or the 15 miles of new line to Gold Creek.

• A new transmission line that would overbuild or follow the existing distribution line near the Methow River along the valley floor, including a new substation.

• A new transmission line along the valley floor that would be aligned to reduce the number of Methow River crossings associated with a route that overbuilds or follows the existing distribution line. This alternative would also include construction of a new substation.

The final alternatives analyzed in detail will depend on issues raised during public scoping.

Lead and Cooperating Agencies: The Forest Service and the PUD will be joint lead agencies in accordance with 40 CFR 1501.5(b), and are responsible for preparation of the EIS. The Forest Service will serve as the lead NEPA agency. The PUD will serve as the lead Washington SEPA agency. The Washington State Department of Natural Resources (DNR), the U.S. Department of the Interior, Bureau of Land Management (BLM), and the Bonneville Power Administration (BPA) will be cooperating agencies are needed.

Nature of Decision To Be Made: The Forest Supervisor for the Okanogan and Wenatchee National Forests will decide whether to permit a “hot” rebuild of the existing Loup-Loup electric transmission line across NFS lands if this is the preferred alternative identified by the agencies. If this alternative is permitted, the Forest Supervisor will also decide what mitigation measures and monitoring will be required. The Forest Supervisor will only be making a decision regarding operations on NFS lands. The Forest Supervisor will not have a decision to make if the PUD selects an alternative for the Methow Transmission Project that does not involve NFS lands.

Scoping Process: Public participation will be especially important at several points during the analysis. The participating agencies will be seeking information, comments, and assistance from Federal, State, local agencies, Native American Tribes and other individuals and organizations who may be interested in or affected by the proposed project. This input will be used in preparation of the draft EIS. The scoping process includes:

• Identifying major issues to be analyzed in depth.

• Identifying issues that have been addressed by a relevant previous environmental analysis including the SEPA Checklist and Determination of Nonsignificance and Response to Comments and Additional Information on the SEPA Checklist and DNS documents prepared by the PUD.

• Identifying potential environmental effects of the alternatives identified to date.

• Identifying potential alternatives that meet the Purpose and Need of the project.

• Notifying interested members of the public of opportunities to participate through meetings, personal contacts, or written comment. Keeping the public informed through the media and/or written material (e.g., newsletters, correspondence, etc.)

Preliminary Issues

A number of issues were identified in the public comment received on the SEPA Checklist and Determination of Nonsignificance issued by the PUD in August 1998. Major issues identified included potential effects to eagles and sharp-tailed grouse, critical deer habitat, noxious weeds, aesthetic concerns, and cumulative effects. These issues were identified specifically with regards to the proposed Twisp/Pateros transmission line route. The Forest Service has identified the following preliminary issues should a “hot” rebuild of the existing Loup-Loup transmission line be identified by the agencies as the preferred alternative: impacts on visual quality, potential for spread of noxious weeds, potential for sedimentation, and safety during construction.

Comment Requested

This notice of intent initiates the scoping process, which guides development of the EIS. The Forest Service is seeking public and agency comment on the proposed action to identify major issues to be analyzed in depth and assistance in identifying potential alternatives to be evaluated. Comments received to this notice, including the names and addresses of those who comment, will be considered part of the public record on this proposed action, and will be available for public inspection. Comments submitted anonymously will be accepted and considered; however, those who submit anonymous comments will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality. Where the request is denied, the agency will return the submission and notify the requester that the comments may be resubmitted, without name and address, within a specified number of days.

A draft EIS will be prepared for comment. Copies will be distributed to interested and affected agencies, organizations, and members of the public for their review and comment. The comment period on the draft EIS will be 45 days from the date the Environmental Protection Agency publishes the notice of availability in the Federal Register. The draft EIS is expected to be filed in September 2004. The final EIS is expected to be filed in May 2005.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp v. NRDC, 435 U.S. 519, 553 (1978). Also, environmental objections that could be raised at the draft EIS state but that are not raised until after the completion of the final EIS may be waived or dismissed by the courts. City of Angoon v. Hodel, 803 F.2d. 1016, 1022 (9th Cir. 1986) and Wisconsin Heritages, Inc. v. Harris, 409 F. Supp. 1334, 1338 (E.D. Wis. 1980). Because of these court rulings, it is very important that those interested in this proposed action participate by the close of the 45 day comment period so that substantive comments and objections are made available to the participating agencies at a time when it can meaningfully consider them and respond to them in the final EIS.

To assist the participating agencies in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

In the final EIS, the participating agencies are required to respond to comments and responses received during the comment period that pertain to the environmental consequences discussed in the draft EIS and applicable laws, regulations, and policies considered in making a decision regarding the proposal. The Forest Supervisor for the Okanogan and Wenatchee National Forest will be the Federal responsible official for this EIS and its Record of Decision. Should the selected alternative involve National Forest System lands, the Federal responsible official will document the decision and reasons for the decision in the Record Decision. That decision will be subject to Forest Service Appeal Regulations (36 CFR part 215).

Dated: November 3, 2003.
James L. Boynton,
Forest Supervisor.

[FR Doc. 03-28397 Filed 11-12-03; 8:45 am]

BILLING CODE 3410-11-M